DEPARTMENT OF TRANSPORTATION

Federal Aviation Administration

14 CFR Part 39

[Docket No. 2003-SW-56-AD; Amendment 39-13495; AD 2004-01-51]

RIN 2120-AA64

Airworthiness Directives; Eurocopter France Model AS355E, F, F1, F2, and N Helicopters

AGENCY: Federal Aviation Administration, DOT.

ACTION: Final rule; request for comments.

SUMMARY: This document publishes in the Federal Register an amendment adopting Airworthiness Directive (AD) 2004-01-51, which was sent previously to all known U.S. owners and operators of the specified Eurocopter France (Eurocopter) model helicopters by individual letters. This AD requires, before further flight, for helicopters with less than 10 hours time-in-service (TIS) since installing a main or combiner gearbox received from Eurocopter Marignane, France, replacing these affected gearboxes with appropriate airworthy gearboxes received from another source. This action is prompted by a report of a free wheel unit slipping during the single engine phase of an acceptance flight that resulted in an engine overspeed and an engine shutdown. The actions specified by this AD are intended to prevent engine overspeed, an engine shut-down, and subsequent loss of control of the helicopter.

DATES: Effective March 15, 2004, to all persons except those persons to whom it was made immediately effective by Emergency AD 2004-01-51, issued on January 8, 2004, which contained the requirements of this amendment.

Comments for inclusion in the Rules Docket must be received on or before April 27, 2004.

ADDRESSES: Submit comments in triplicate to the Federal Aviation Administration (FAA), Office of the Regional Counsel, Southwest Region, Attention: Rules Docket No. 2003-SW-56-AD, 2601 Meacham Blvd., Room 663, Fort Worth, Texas 76137. You may also send comments electronically to the Rules Docket at the following address: 9-asw-adcomments@faa.gov.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION: On January 8, 2004, the FAA issued Emergency AD 2004-01-51 for the specified model helicopters with less than 10 hours TIS since installing a main or combiner gearbox received from the Eurocopter Marignane, France, works. The emergency AD requires, before further flight, replacing any of these affected gearboxes with appropriate airworthy gearboxes received from another source. This is an interim action pending the results of an ongoing investigation. That action was prompted by a report of a main gearbox free-wheel unit slipping, resulting in an engine overspeed and shut-down, which occurred during the single-engine phase of an acceptance flight. This condition, if not corrected, could result in an engine overspeed, an engine shut-down, and subsequent loss of control of the helicopter.

The FAA has reviewed Eurocopter Alert Telex No. 63.00.21 R1, dated December 19, 2003, which describes procedures for contacting the manufacturer and cleaning the bevel reduction gear pending the results of an ongoing investigation.

The Direction Generale De L'Aviation Civile (DGAC), the airworthiness authority for France, notified the FAA that an unsafe condition may exist on these helicopter models. The DGAC advises of a main gearbox free-wheel slippage with resulting engine shut-down due to overspeed, which occurred during the single-engine phase of an acceptance flight at the Eurocopter works. The DGAC classified the Alert Telex as mandatory and issued AD No. UF-2003-454, dated December 11, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

Since the unsafe condition described is likely to exist or develop on other Eurocopter helicopters of the same type design, the FAA issued Emergency AD 2004-01-51 to prevent an engine overspeed, an engine shut-down, and subsequent loss of control of the helicopter. This AD requires, before further flight, for helicopters with less than 10 hours TIS since installing a main or a combiner gearbox received from Eurocopter, Marignane, France, works, replacing the gearbox with an appropriate airworthy gearbox received from another source. The short compliance time involved is required because the previously described critical unsafe condition can adversely affect the controllability of the helicopter. Therefore, replacing any affected gearbox with an appropriate airworthy gearbox is required before further flight, and this AD must be issued immediately.

Since it was found that immediate corrective action was required, notice and opportunity for prior public comment thereon were impracticable and contrary to the public interest, and good cause existed to make the AD effective immediately by individual letters issued on January 8, 2004, to all known U.S. owners and operators of Eurocopter Model AS355E, F, F1, F2, and N helicopters. These conditions still exist, and the AD is hereby published in the Federal Register as an amendment to 14 CFR 39.13 to make it effective to all persons.

The FAA estimates that this AD will affect 104 helicopters of U.S. registry and will take approximately ½ work hour to determine applicability and 12 work hours to replace a gearbox at an average labor rate of $65 per work hour. Required parts will cost approximately $97,000 per helicopter. Based on these figures, we estimate the total cost impact of the AD on U.S. operators to be $981,180, assuming 10 gearboxes are replaced.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2003-SW-56-AD.” The postcard will be date stamped and returned to the commenter.

The regulations adopted herein will not have a substantial direct effect on the States, on the relationship between the national government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT regulatory policies and procedures (44 FR 11034, February 26, 1979). If it is determined that this emergency regulation otherwise would be significant under DOT regulatory policies and procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-01-51 Eurocopter France: Amendment 39-13495. Docket No. 2003-SW-56-AD.

Applicability: Model AS355E, F, F1, F2, and N helicopters, with a main gearbox or a combiner gearbox installed, which was received from Eurocopter Marignane, France, works, certificated in any category.

Compliance: Before further flight, unless accomplished previously.

To prevent slipping of the main gearbox free-wheel unit, an engine overspeed, an engine shut down, and subsequent loss of control of the helicopter, accomplish the following:

(a) For helicopters with less than 10 hours time-in-service (TIS), replace the main gearbox or combiner gearbox with the appropriate airworthy gearbox received from another source.

Note 1: Preliminary investigation has shown that the affected main gearboxes and combiner gearboxes with 10 or more hours TIS are not susceptible to slipping of the free-wheel unit.

Note 2: Eurocopter Alert Telex No. 63.00.21 R1, dated December 19, 2003, pertains to the subject of this AD.

(b) To request a different method of compliance or a different compliance time for this AD, follow the procedures in 14 CFR 39.19. Contact the Safety Management Group, Rotorcraft Directorate, FAA, for information about previously approved alternative methods of compliance.

(c) Special flight permits will not be issued.

(d) This amendment becomes effective on March 15, 2004, to all persons except those persons to whom it was made immediately effective by Emergency AD 2004-01-51, issued January 8, 2004, which contained the requirements of this amendment.

Note 3: The subject of this AD is addressed in Direction Generale de L'Aviation Civile (France) AD No. UF-2003-454, dated December 11, 2003.

Issued in Fort Worth, Texas, on February 20, 2004.
David A. Downey,
Manager, Rotorcraft Directorate, Aircraft Certification Service.

[FR Doc. 04-4356 Filed 2-26-04; 8:45 am]

BILLING CODE 4910-13-P